DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 29, 2010.

Interested persons are invited to submit written comments regarding the subject matter of the investigations to the Director, Division of Trade Adjustment Assistance, at the address shown below, not later than November 29, 2010.

Copies of these petitions may be requested under the Freedom of Information Act. Requests may be submitted by fax, courier services, or mail, to FOIA Disclosure Officer, Office of Trade Adjustment Assistance (ETA), U.S. Department of Labor, 200 Constitution Avenue, NW., Washington, DC 20210 or to foiarequest@dol.gov.

Signed at Washington, DC, this 4th of November 2010.
Michael Jaffe,
Certifying Officer, Division of Trade Adjustment Assistance.

Appendix
[TAA petitions instituted between 10/25/10 and 10/29/10]
TA-W | Subject firm (petitioners) | Location | Date of institution | Date of petition
74770 | 21st Century Newspapers (Workers) | Pontiac, MI | 10/25/10 | 10/20/10
74771 | Psychonomic Society (Workers) | Austin, TX | 10/25/10 | 10/21/10
74772 | HEITEC Consulting (Workers) | Palm Desert, CA | 10/25/10 | 10/11/10
74773 | Welco LLC (Company) | Shelton, WA | 10/25/10 | 10/12/10
74774 | Charter Manufacturing Company, Inc. (State/One-Stop) | Milwaukee, WI | 10/25/10 | 10/21/10
74775 | Guardian Manufacturing, LLC (Union) | Willard, OH | 10/25/10 | 10/21/10
74776 | Wisconsin Drapery Supply, Inc. (Company) | Pewaukee, WI | 10/25/10 | 10/22/10
74777 | Fraser Timber Limited (Company) | Ashland, ME | 10/25/10 | 10/22/10
74778 | CEVA Logistics (Workers) | Houston, TX | 10/25/10 | 10/21/10
74779 | Exel-Owens Corning (Workers) | Heath, OH | 10/27/10 | 10/12/10
74780 | Harvard Folding Box Company (State/One-Stop) | Lynn, MA | 10/27/10 | 10/20/10
74781 | Ideal Box Company (State/One-Stop) | Lawrence, MA | 10/27/10 | 10/20/10
74782 | Assurant, Inc. (Workers) | Miami, FL | 10/27/10 | 10/25/10
74783 | Louisville Bedding Company (Workers) | Munfordville, KY | 10/27/10 | 10/18/10
74784 | Humana, Inc. (Workers) | Louisville, KY | 10/27/10 | 10/22/10
74785 | Southeast Missouri Hospital (Workers) | Cape Girardeau, MO | 10/27/10 | 10/26/10
74786 | Alexvale Furniture Company (Company) | Hudson, NC | 10/27/10 | 10/26/10
74787 | Doner Advertising (State/One-Stop) | Southfield, MI | 10/29/10 | 10/26/10
74788 | JP Morgan Chase and Company (Workers) | Dallas, TX | 10/29/10 | 10/21/10
74789 | Convergys (Workers) | Orem, UT | 10/29/10 | 08/27/10
74790 | CTI and Associates, Inc. (Workers) | Wixom, MI | 10/29/10 | 10/25/10
74791 | Butternut One Limited (Company) | Beckley, WV | 10/29/10 | 10/25/10
74792 | Greenbrier Forest Products (Company) | Smoot, WV | 10/29/10 | 10/25/10
74793 | Apex Tool Group, LLC (Company) | Cullman, AL | 10/29/10 | 10/27/10
74794 | Xerox (Company) | Webster, NY | 10/29/10 | 10/27/10
74795 | Nevamar Company, LLC (State/One-Stop) | Tarboro, NC | 10/29/10 | 10/27/10

[FR Doc. 2010-28994 Filed 11-16-10; 8:45 am]

BILLING CODE 4510-FN-P